DEPARTMENT OF HOMELAND SECURITY

Coast Guard

[USCG-2006-24196]

Transportation Worker Identification Credential (TWIC) Implementation in the Maritime Sector; Navigation and Vessel Inspection Circular (NVIC)

AGENCY: Coast Guard, DHS.

ACTION: Notice of availability.

SUMMARY: The Coast Guard announces the availability of a Navigation and Vessel Inspection Circular (NVIC) 03-07 “Guidance for the Implementation of the Transportation Worker Identification Credential Program in the Maritime Sector”.

DATES: NVIC 03-07 is available at the locations noted in this notice beginning on July 6, 2007.

ADDRESSES: Information referenced in this notice, including NVIC 03-07 may be found in Coast Guard docket number USCG-2006-24196 and is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet at http://dms.dot.gov.

FOR FURTHER INFORMATION CONTACT: If you have questions on this notice, the NVIC, or the TWIC final regulations, call LCDR Jonathan Maiorine, Commandant (CG-3PCP-2), United States Coast Guard, telephone 1-877-687-2243. If you have questions on viewing or submitting material to the docket, call Renee V. Wright, Program Manager, Docket Operations, telephone 202-493-0402.

SUPPLEMENTARY INFORMATION:

Navigation and Vessel Inspection Circular (NVIC) 03-07

On January 25, 2007, the Coast Guard and Transportation Security Administration (TSA) issued a joint final rule “Transportation Worker Identification Credential Implementation in the Maritime Sector; Hazardous Material Endorsement for a Commercial Driver's License,” referred to as the TWIC final rule. See 72 FR 3492. That rule, which became effective in major part on March 26, 2007, made significant changes to 33 CFR Chapter I Subchapter H, 46 CFR Chapter I Subchapter B, and 49 CFR Chapter XII Subchapter D. The final rule implements requirements under the Maritime Transportation Security Act of 2002, as amended by the Security and Accountability for Every Port Act of 2006 (SAFE Port Act), which requires, among other things, credentialed merchant mariners and workers with unescorted access to secure areas of vessels and facilities to undergo a security threat assessment and receive a biometric credential, known as a Transportation Worker Identification Credential (TWIC).

The Coast Guard has prepared NVIC 03-07, “Guidance for the Implementation of the Transportation Worker Identification Credential Program in the Maritime Sector,” to provide guidance to transportation workers, owners and operators, and merchant mariners on implementation of the new requirements. The information in this NVIC details the enrollment and issuance process, provides guidance for successful execution of compliance requirements, provides clarification of the regulations found in 33 CFR Parts 101 to 106 and 49 CFR Parts 1515, 1540, 1570 and 1572, and includes a more detailed discussion of the actions required by those regulations, with examples, to increase understanding and promote nationwide consistency. These guidelines are intended to help industry comply with the new regulations and the Coast Guard Captains of the Port (COTP) implement the TWIC Program.

Availability

NVIC 03-07 is available in the docket for this notice at those places indicated under ADDRESSES above. It is also available at the following Web sites: Homeport (http://homeport.uscg.mil) and the U.S. Coast Guard NVIC index (http://www.uscg.mil/hq/g-m/nvic/index00.htm).

Dated: July 3, 2007.
J.G. Lantz,
Acting Assistant Commandant for Prevention.

[FR Doc. E7-13368 Filed 7-9-07; 8:45 am]

BILLING CODE 4910-15-P